DEPARTMENT OF AGRICULTURE

Submission for OMB Review; Comment Request

December 22, 2020.

The Department of Agriculture has submitted the following information collection requirement(s) to OMB for review and clearance under the Paperwork Reduction Act of 1995, Public Law 104-13. Comments are requested regarding whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by January 29, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food Safety and Inspection Service

Title: Focus Group Research to Inform Consumer Food Safety Education and Outreach.

OMB Control Number: 0583-NEW.

Summary of Collection: The Food Safety and Inspection Service (FSIS) has been delegated the authority to exercise the functions of the Secretary (7 CFR 2.18, 2.53), as specified in the Federal Meat Inspection Act (FMIA) (21 U.S.C. 601, et seq.). This statute mandates that FSIS protect the public by verifying that meat products are safe, wholesome, unadulterated, and properly labeled and packaged.

FSIS's Office of Public Affairs and Consumer Education (OPACE) develops consumer education programs concerning the safe handling, preparation, and storage of meat, poultry, and processed egg products to improve consumer food handling behaviors and minimize the incidence of foodborne illness.

Need and Use of the Information: OPACE plans to conduct two sets of focus groups with consumers to collect qualitative information on the following topics: (1) Consumers' understanding and response to food recalls and (2) consumers' understanding and use of manufacturer cooking instructions on not-ready-to-eat (NRTE) meat and poultry products. A survey questionnaire will be used to screen participants for eligibility. Without the information, FSIS will not have the needed information to effectively communicate with the public and improve consumers' food safety behaviors. The lack of information will impede the Agency's ability to provide more useful information to consumers to help reduce foodborne illness in the United States.

Description of Respondents: Individuals or households.

Number of Respondents: 1,280.

Frequency of Responses: Reporting: One time.

Total Burden Hours: 411.

Ruth Brown,
Departmental Information Collection Clearance Officer.

[FR Doc. 2020-28800 Filed 12-29-20; 8:45 am]

BILLING CODE 3410-DM-P